DEPARTMENT OF HEALTH AND HUMAN SERVICES

National Institutes of Health

National Cancer Institute; Amended Notice of Meeting

Notice is hereby given of a change in the meeting of the Joint meeting of the National Cancer Advisory Board and NCI Board of Scientific Advisors, June 20, 2016, 04:30 p.m. to June 21, 2016, 05:30 p.m., National Institutes of Health, Building 31, 31 Center Drive, C Wing, 6th Floor, Conference Room 10, Bethesda, MD, 20892 which was published in the Federal Register on May 16, 2016, 81 FR 30316.

This meeting is being amended to change the start time of the open session on June 21, 2016 from 8:00 a.m. to 8:30 a.m. The meeting is partially closed to the public.

Dated: June 9, 2016.
Melanie J. Gray,
Program Analyst, Office of Federal Advisory Committee Policy.

[FR Doc. 2016-14193 Filed 6-15-16; 8:45 am]

BILLING CODE 4140-01-P